DEPARTMENT OF TRANSPORTATION

Federal Aviation Administration

14 CFR Part 39

[Docket No. FAA-2009-0489; Directorate Identifier 2009-CE-025-AD]

RIN 2120-AA64

Airworthiness Directives; Air Tractor, Inc. Models AT-802 and AT-802A Airplanes

AGENCY: Federal Aviation Administration (FAA), Department of Transportation (DOT).

ACTION: Notice of proposed rulemaking (NPRM).

SUMMARY: We propose to adopt a new airworthiness directive (AD) for certain Air Tractor, Inc. (Air Tractor) Models AT-802 and AT-802A airplanes. This proposed AD would require installing a rudder-aileron interconnect cable system shield kit and securing any items stowed in the baggage compartment using tie downs and/or a cargo net until the cable shield kit is installed. This proposed AD results from a report of the rudder pedal cable becoming jammed in flight. We are proposing this AD to prevent jamming of the rudder-aileron interconnect cables by unsecured items in the baggage compartment, which could result in failure of the rudder-aileron interconnect cable system. This failure could lead to loss of control.

DATES: We must receive comments on this proposed AD by July 28, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Air Tractor, Inc., P.O. Box 485, Olney, Texas 76374; telephone: (940) 564-5616; facsimile: (940) 564-5612; E-mail: parts@airtractor.com; Internet: http://www.airtractor.com.

FOR FURTHER INFORMATION CONTACT: Andy McAnaul, Aerospace Engineer, 10100 Reunion Pl., Ste. 650, San Antonio, Texas 78216; telephone: (210) 308-3365; fax: (210) 308-3370.

SUPPLEMENTARY INFORMATION:

Comments Invited

We invite you to send any written relevant data, views, or arguments regarding this proposed AD. Send your comments to an address listed under the ADDRESSES section. Include the docket number, “FAA-2009-0489; Directorate Identifier 2009-CE-025-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We received a report of an Air Tractor Model AT-802 airplane rudder pedal jamming in flight. The pilot was able to maintain control and land. After landing, a cable pulley in the rudder system was found broken. Air Tractor believes one or more unsecured items in the baggage compartment became entangled in the cables and caused them to jam, resulting in failure of the pulley.

Air Tractor has designed a modification kit that installs shielding in the baggage compartment to prevent unsecured stowed items from becoming entangled in the rudder-aileron interconnect cable system.

This condition, if not corrected, could result in jamming of the rudder-aileron interconnect cables by unsecured items in the baggage compartment, which could result in failure of the rudder-aileron interconnect cable system. This failure could lead to loss of control.

Relevant Service Information

We have reviewed Snow Engineering Co., Service Letter #274, Revision A, dated April 6, 2009.

The service information describes procedures for installing a cable shield in the baggage compartment.

FAA's Determination and Requirements of the Proposed AD

We are proposing this AD because we evaluated all information and determined the unsafe condition described previously is likely to exist or develop on other products of the same type design. This proposed AD would require installing a rudder-aileron interconnect cable system shield kit and securing any items stowed in the baggage compartment using tie downs and/or a cargo net until the cable shield kit is installed.

Normally, the FAA would use a compliance time of hours time-in-service (TIS) or a certain number of months. The proposed AD uses a calendar date for compliance instead of hours TIS or a certain number of months. We are using the calendar date of before December 31, 2009, to allow owners with airplanes used in agricultural spray operations until the end of the spray season to install the rudder-aileron interconnect cable system shields (terminating action).

Differences Between This Proposed AD and the Service Information

This proposed AD would require securing stowed items in the baggage compartment with tie-down straps or a cargo net until the rudder-aileron interconnect cable system shield required in the proposed AD is installed. The requirements of this proposed AD, if adopted as a final rule, would take precedence over the provisions in the service information.

Costs of Compliance

We estimate that this proposed AD would affect 210 airplanes in the U.S. registry.

We estimate the following costs to do the proposed modification:

Labor cost | Parts cost | Total cost per airplane | Total cost on U.S. operators
Cable Shield Kit SL#274: 4.5 work-hours × $80 per hour = $360 | $860 | affects 170 airplanes at $1,220 each | $207,400
Cable Shield Kit SL#274-2: 4.5 work-hours × $80 per hour = $360 | 540 | affects 40 airplanes at $900 each | 36,000

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Air Tractor, Inc.: Docket No. FAA-2009-0489; Directorate Identifier 2009-CE-025-AD.

Comments Due Date

(a) We must receive comments on this airworthiness directive (AD) action by July 28, 2009.

Affected ADs

(b) None.

Applicability

(c) This AD applies to Model AT-802 and AT-802A airplanes, serial numbers 802/802A-001 through 802/802A-0319, that are certificated in any category.

Unsafe Condition

(d) This AD results from a report of the rudder pedal cable becoming jammed in flight. We are proposing this AD to prevent jamming of the rudder-aileron interconnect cables by unsecured items in the baggage compartment, which could result in failure of the rudder-aileron interconnect cable system. This failure could lead to loss of control.

Compliance

(e) To address this problem, you must do the following, unless already done:

Actions | Compliance | Procedures
(1) Secure any items stowed in the baggage compartment using tie down straps and/or a cargo net | Before further flight after the effective date of this AD until the installation of the rudder-aileron interconnect cable shield kit required in paragraph (e)(2) of this AD is done | Not applicable.
(2) Install the following rudder-aileron interconnect cable shield kit, as applicable | No later than December 31, 2009 | Snow Engineering Co., Service Letter #274, Revision A, dated April 6, 2009.
(i) For all airplanes equipped for agricultural spray operations and all fire-fighting airplanes retrofitted with Gen II Fire Retardant Delivery System relay box, install cable shield kit SL#274.
(ii) For all fire-fighting airplanes not equipped with Gen II Fire Retardant Delivery System relay box, install cable shield kit SL#274-2.
(iii) Installation of the applicable cable shield kit SL#274 or SL#274-2 terminates the requirement of paragraph (e)(1) of this AD.

Alternative Methods of Compliance (AMOCs)

(f) The Manager, Fort Worth Airplane Certification Office, FAA, has the authority to approve AMOCs for this AD, if requested using the procedures found in 14 CFR 39.19. Send information to ATTN: Andy McAnaul, Aerospace Engineer, 10100 Reunion Pl., Ste. 650, San Antonio, Texas 78216; telephone: (210) 308-3365; fax: (210) 308-3370. Before using any approved AMOC on any airplane to which the AMOC applies, notify your appropriate principal inspector (PI) in the FAA Flight Standards District Office (FSDO), or lacking a PI, your local FSDO.

Related Information

(g) To get copies of the service information referenced in this AD, contact Air Tractor, Inc., P.O. Box 485, Olney, Texas 76374; telephone: (940) 564-5616; facsimile: (940) 564-5612; E-mail: parts@airtractor.com; Internet: http://www.airtractor.com. To view the AD docket, go to U.S. Department of Transportation, Docket Operations, M-30, West Building Ground Floor, Room W12-140, 1200 New Jersey Avenue, SE., Washington, DC 20590, or on the Internet at http://www.regulations.gov.

Issued in Kansas City, Missouri, on May 20, 2009.
Kim Smith,
Manager, Small Airplane Directorate, Aircraft Certification Service.

[FR Doc. E9-12524 Filed 5-28-09; 8:45 am]

BILLING CODE 4910-13-P